ENVIRONMENTAL PROTECTION AGENCY

[ER-FRL-6660-2]

Environmental Impact Statements; Notice of Availability

Responsible Agency: Office of Federal Activities, General Information (202) 564-7167 or http://www.epa.gov/compliance/nepa/.

Weekly receipt of Environmental Impact Statements filed January 24, 2005 through January 28, 2005 pursuant to 40 CFR 1506.9.

EIS No. 050029, Final Supplement, FHW, FL, FL-23 Extension (Branan Field-Chaffe Road), Construction from FL-134 (103rd Street) to FL-8 (I-10) and FL-10 (US-90/Beaver Street), NPDES and US Army COE Section 404 Permits Issuance, Clay and Duval Counties, FL, Wait Period Ends: March 7, 2005, Contact: Donald E. Davis (404) 562-9521.

EIS No. 050030, Draft EIS, NPS, CA, Non-Native Deer Management Plan of Axis Deer (Axis axis) and Fallow Deer (Dama dama), Implementation, Point Reyes National Seashore (PRNS) and Golden Gate National Recreation Area, Marin County, CA, Comment Period Ends: April 05, 2005, Contact: Natalie Gates (415) 464-5189.

EIS No. 050031, Final EIS, USA, TX, Fort Bliss, Texas Proposed Leasing of Lands, Proposed Siting, Construction and Operation, by the City of El Paso of a Brackish Water Desalination Plant and Support Facilities, El Paso Water Utilities (EPWU), City of El Pasco, TX and New Mexico, Wait Period Ends: March 7, 2005, Contact: John Barrera (915) 568-3908.

EIS No. 050032, Draft EIS, AFS, WV, Fernow Experimental Forest, To Continue Long-Term Research and Initiate New Research, Involving Removal of Trees, Prescribed Burning, Stem Injection of Selected of Trees, Control Invasive Plant Species, Northeastern Research Station, Parson, Tucker County, WV, Comment Period Ends: March 21, 2005, Contact: Mary Beth Adams (304) 478-2000 Ext 130.

EIS No. 050033, Draft EIS, IBR, NV, Humboldt Project Conveyance, Transferring 83,530 Acres from Federal Ownership to the Pershing County Water Conservation District (PCWCD), Pershing and Lander Counties, NV, Comment Period Ends: April 01, 2005, Contact: Caryn Huntt DeCarlo (775) 884-8352.

EIS No. 050034, Final EIS, NSF, Development and Implementation of Surface Traverse Capabilities in Antarctic Comprehensive Environmental Evaluation, Antarctica, Wait Period Ends: March 7, 2005, Contact: Polly A. Pinhole (703) 292-8033.

EIS No. 050035, Final EIS, AFS, WY, Upper Green River Area Rangeland Project, Propose Site Specific Grazing Management Practices, Bridger-Teton Forest, Sublette, Teton and Fremont Counties, WY, Wait Period Ends: March 7, 2005, Contact: Craig Trulock (307) 367-4326.

EIS No. 050036, Draft EIS, AFS, CA, Burlington Ridge Trails Project, To Eliminate, Reconstruct/or Reroute Unsound Trail Sections, Tahoe National Forest, Yuba River Ranger District, Camptonville, Nevada County, NV, Comment Period Ends: March 21, 2005, Contact: Mary Furney (053) 478-6263.

EIS No. 050037, Draft EIS, AFS, MO, Mark Twain National Forest Land and Resource Management Plan, Implementation, Revise to the 1986 Land and Resource Management Plan, several counties, MO, Comment Period Ends: May 5, 2005, Contact: Laura Watts (573) 341-7471.

EIS No. 050038, Draft EIS, BLM, NM, McGregor Range Resource Management Plan Amendment (RMPA), Implementation, Otero County, NM, Comment Period Ends: May 5, 2005, Contact: Tom Phillips (505) 525-4377.

EIS No. 050039, Draft EIS, AFS, NM, Tajique Watershed Restoration Project, Proposes Fuel Reduction and Restore Forest Health, Cibola National Forest, Torraine County, NM, Comment Period Ends: March 21, 2005, Contact: Vicky Estrada (505) 847-2990.

EIS No. 050040, Final Supplement, AFS, UT, Table Top Exploratory Oil and Gas Wells, New Information from the Approval 1994 Final EIS, Wasatch-Cache National Forest, Evanston Ranger District, Summit County, UT, Wait Period Ends: March 7, 2005, Contact: Roger Kesterson (307) 782-6555.

EIS No. 050041, Final Supplement, BIA, AZ, NM, Programmatic EIS—Navajo Nation 10-Year Forest Management Plan, Selected Preferred Alternative Four, Chuska Mountain and Defiance Plateau Area, AZ and NM, Wait Period Ends: March 7, 2005, Contact: Jonathan Martin (928) 729-7228.

EIS No. 050042, Final EIS, AFS, WY, Tongue Allotment Management Plan, Proposal to Continue Livestock Grazing on All or Portions of the 22 Allotment, Bighorn National Forest, Tongue and Medicine Wheel/Paintrock Ranger Districts, Johnson, Sheridan and Bighorn Counties, WY, Wait Period Ends: March 7, 2005, Contact: Craig L. Yancey (307) 674-2600.

EIS No. 050043, Draft Supplemental EIS, FHW, UT, US 6 Highway Project, Improvements from Interstate 15 (I-15) in Spanish Fork to Interstate (I-70) near Green River, New Information, Funding, Right-of-Way Permit and U.S. Army COE Section 404 Permit, Utah, Wasatch, Carbon, Emery Counties, UT, Comment Period Ends: March 28, 2005, Contact: Jeff Berna (801) 963-0182.

Amended Notices

EIS No. 050000, Draft EIS, AFS, UT, Ogden Ranger District Travel Plan, To Update the Travel Management Plan, Wasatch-Cache National Plan, Ogden Ranger District, Box Elder, Cache, Morgan, Weber and Rich Counties, UT, Comment Period Ends: March 30, 2005, Contact: Rick Vallejos (801) 625-5112. Revision of Federal Register Notice Published on 1/28/05: CEQ Comment Period Ending 02/22/2005 has been Extended to 03/01/2005.

EIS No. 250017, Final EIS, NOA, ME, MA, RI, NH, CT, Atlantic Herring Fishery Management Plan, Minimizing Impacts on Essential Fish Habitat of Any Species, Gulf of Maine—Georges Bank, ME, NH, MA, CT and RI, Wait Period Ends: March 1, 2005, Contact: Peter D. Colosi (978) 281-3332. Revision of Federal Register Notice Published on 1/28/05: CEQ Comment Period Ending 02/22/2005 has been Extended to 03/01/2005.

Dated: February 1, 2005.
Robert W. Hargrove,
Director, NEPA Compliance Division, Office of Federal Activities.

[FR Doc. 05-2177 Filed 2-3-05; 8:45 am]

BILLING CODE 6560-50-P